DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 2, 2009.

Interested persons are invited to submit written comments regarding the subject matter of the investigations to the Director, Division of Trade Adjustment Assistance, at the address shown below, not later than October 2, 2009.

The petitions filed in this case are available for inspection at the Division of Trade Adjustment Assistance, Employment and Training Administration, U.S. Department of Labor, Room N-5428, 200 Constitution Avenue, NW., Washington, DC 20210.

Signed at Washington, DC, this 25th day of August 2009.
Linda G. Poole,
Certifying Officer, Division of Trade Adjustment Assistance.

Appendix
TAA petitions instituted between 7/13/09 and 7/17/09
TA-W | Subject firm (petitioners) | Location | Date of institution | Date of petition
71630 | Sheet Metal Workers Local 292 (Wkrs) | Troy, MI | 07/13/09 | 06/10/09
71631 | Plymouth Tube Company (Wkrs) | East Troy, WI | 07/13/09 | 07/09/09
71632 | Talaris (Formerly De La Rue Cash Systems) (IAMAW) | Watertown, WI | 07/13/09 | 07/09/09
71633 | EGS Electrical Group/O-Z Gedney Company (Comp) | Pittston, PA | 07/13/09 | 07/10/09
71634 | Yale Industrial Trucks of Pittsburgh (Wkrs) | Monroeville, PA | 07/13/09 | 07/09/09
71635 | Ventra Evart, LLC (State) | Evart, MI | 07/13/09 | 07/10/09
71636 | Tri-Way Mold and Engineering (State) | Roseville, MI | 07/13/09 | 06/29/09
71637 | Stream Global Services (Wkrs) | Seargeant Bluffs, IA | 07/13/09 | 06/15/09
71638 | Manugraph DGM (Wkrs) | Elizabethville, PA | 07/13/09 |
71639 | PAD Leasing Associates dba Newton Transportation (Comp) | Hudson, NC | 07/13/09 | 07/08/09
71640 | Albany International (Comp) | Tumwater, WA | 07/13/09 | 07/10/09
71641 | Rocky Mountain Poison and Drug Center (Wkrs) | Denver, CO | 07/13/09 | 07/10/09
71642 | SPS Technologies (Wkrs) | Waterford, MI | 07/13/09 | 07/08/09
71643 | Dietrich Metal Framing (Wkrs) | Pittsburgh, PA | 07/13/09 | 07/08/09
71644 | Jeld-Wen Premium Doors (Comp) | Oshkosh, WI | 07/13/09 | 07/10/09
71645 | Avery Dennison Retail Information Services, LLC (Wkrs) | Miamisburg, OH | 07/13/09 | 07/10/09
71646 | Blue Sky Oilfield Services (State) | Washington, PA | 07/13/09 | 07/10/09
71647 | Vacumet Corporation (AFLCIO) | Morristown, TN | 07/13/09 | 07/13/09
71648 | Innovion Corporation (Comp) | Chandler, AZ | 07/13/09 | 07/08/09
71649 | Erickson Air-Crane, Inc. (Wkrs) | Central Point, OR | 07/13/09 | 07/09/09
71650 | Evergreen Pulp, Inc. (AWPPW) | Somoa, CA | 07/14/09 | 07/07/09
71651 | Keystone Findings, Inc. (Wkrs) | Telford, PA | 07/14/09 | 06/09/09
71652 | Cooper Tools (Wkrs) | Hicksville, OH | 07/14/09 | 07/13/09
71653 | Minnesota Industries (State) | Chisholm, MN | 07/14/09 | 07/13/09
71654 | DeLong Sportswear (State) | Pella, IA | 07/14/09 | 07/09/09
71655 | Rosboro Springfield Operations (CICUBC) | Springfield, OR | 07/14/09 | 07/13/09
71656 | Datalogic Scanning, Inc. (Comp) | Eugene, OR | 07/14/09 | 07/10/09
71657 | Graftech International Holdings, Inc. (Comp) | Columbia, TN | 07/14/09 | 07/13/09
71658 | Cooper Tire and Rubber Company (Comp) | Moraine, OH | 07/14/09 | 07/10/09
71659 | Technicolor Home Entertainment Services (Comp) | Camarillo, CA | 07/14/09 | 07/06/09
71660 | ILevel by Weyerhaeuser Veneer Technologies (State) | Colbert, GA | 07/14/09 | 07/09/09
71661 | Apollo Chemical, LLC—subs. of Mount Vernon Mills (Comp) | Ware Shoals, SC | 07/14/09 | 07/13/09
71662 | TRW Integrated Chassis Systems, LLC (UAW) | Saginaw, MI | 07/14/09 | 06/26/09
71663 | Johnson Controls (Comp) | Dixon, IL | 07/14/09 | 07/14/09
71664 | Tate and Lyle Sucralose (AFLCIO) | McIntosh, AL | 07/14/09 | 06/25/09
71665 | Future-Visions/Micron (Wkrs) | Manassas, VA | 07/14/09 | 07/01/09
71666 | Braka Industries, Inc. (Wkrs) | Salem, OR | 07/14/09 | 07/01/09
71667 | Fort Smith Express, Inc. (DHL) (Wkrs) | Fort Smith, AR | 07/14/09 | 07/01/09
71668 | Permacel (Comp) | Pleasant Prairie, WI | 07/14/09 | 07/14/09
71669 | Delphi Corporation (Wkrs) | Auburn Hills, MI | 07/14/09 | 07/12/09
71670 | Indalex, Inc. (Comp) | Elkhart, IN | 07/14/09 | 07/13/09
71671 | Rockwell Automation (Comp) | Milwaukee, WI | 07/15/09 | 07/08/09
71672 | BBDO Detroit (Comp) | Troy, MI | 07/15/09 | 07/14/09
71673 | FLA Orthopedics, Inc. (Comp) | Huntersville, NC | 07/15/09 | 07/13/09
71674 | Timken (Comp) | Pulaski, TN | 07/15/09 | 07/10/09
71675 | Woodlawn Precision Machine, Inc. (Comp) | Woodlawn, VA | 07/15/09 | 07/14/09
71676 | Cummins Diesel Recon (Union) | Memphis, TN | 07/15/09 | 07/10/09
71677 | Bank of America (Wkrs) | Rio Rancho, NM | 07/15/09 | 07/05/09
71678 | Johnson Controls (Comp) | Columbia, TN | 07/15/09 | 07/14/09
71679 | Acu-Rite Companies, Inc. (Wkrs) | Jamestown, NY | 07/15/09 | 07/10/09
71680 | Kone Inc. (Wkrs) | McKinney, TX | 07/15/09 | 07/14/09
71681 | International Automotive Components (USW) | Springfield, TN | 07/15/09 | 07/13/09
71682 | Eaton Aeroquip, LLC (Comp) | Van Wert, OH | 07/15/09 | 07/13/09
71683 | Sabic Innovative Plastics (Wkrs) | Mount Vernon, IN | 07/15/09 | 07/13/09
71684 | Quality Mould, Inc. (Wkrs) | Latrobe, PA | 07/15/09 | 07/09/09
71685 | Goodyear Tire and Rubber Company (USW) | Akron, OH | 07/15/09 | 07/09/09
71686 | RM International, Inc. (dba RMI) (Comp) | Portland, OR | 07/15/09 | 07/14/09
71687 | ATMEL Corporation (Wkrs) | Colorado Springs, CO | 07/15/09 | 07/14/09
71688 | Friction Holdings, LLC (Wkrs) | Crawfordsville, IN | 07/15/09 | 07/13/09
71689 | Clopay Building Products, Inc. (Comp) | Baldwin, WI | 07/16/09 | 07/14/09
71690 | Certain Teed Corporation (Wkrs) | Claremont, NC | 07/16/09 | 06/30/09
71691 | National Material Company (USWA) | Arnold, PA | 07/16/09 | 07/13/09
71692 | Pinehurst Manufacturing, Inc. (Comp) | Albemarle, NC | 07/16/09 | 07/14/09
71693 | Ceco Building Systems (Comp) | Columbus, MS | 07/16/09 | 07/16/07
71694 | Mittal Steel Walker Wire (Comp) | Ferndale, MI | 07/16/09 | 07/15/09
71695 | Semitool, Inc. (Comp) | Kalispell, MT | 07/16/09 | 07/13/09
71696 | Health Net, Inc. (Wkrs) | Tigard, OR | 07/16/09 | 07/15/09
71697 | Federal-Mogul (Comp) | Summerton, SC | 07/16/09 | 07/15/09
71698 | Hubbell Inc. Wiring Device (State) | Bridgeport, CT | 07/16/09 | 07/15/09
71699 | Western Union Financial Services, Inc. (CWA) | St. Charles, MO | 07/16/09 | 07/15/09
71700 | Pendleton (Comp) | Portland, OR | 07/16/09 | 07/15/09
71701 | Key Gas Components (7/11/0) | Marion, NC | 07/16/09 | 07/11/09
71702 | Herman Miller, Inc. (Comp) | Spring Lake, MI | 07/16/09 | 07/15/09
71703 | Alpha Carb Enterprises (Comp) | Leechburg, PA | 07/16/09 | 07/15/09
71704 | Hart and Cooley (State) | Turners Falls, MA | 07/16/09 | 07/12/09
71705 | Arcelor Mittal, USA (USW) | Hennepin, IL | 07/16/09 | 07/06/09
71706 | Daimler Trucks North America, LLC (UAW) | Gastonia, NC | 07/16/09 | 07/15/09
71707 | Hella Lighting Corporation (Comp) | York, SC | 07/16/09 | 07/14/09
71708 | The Earnest Sewn Company (Wkrs) | New York, NY | 07/16/09 | 07/14/09
71709 | Results—Las Vegas, NM LLC (Wkrs) | Las Vegas, NM | 07/16/09 | 06/18/09
71710 | Arkema, Inc. (Wkrs) | Philadelphia, PA | 07/16/09 | 07/10/09
71711 | OSRam Sylvania (IUECWA) | St. Marys, PA | 07/17/09 | 07/01/09
71712 | Automodular Assemblies of Ohio, Inc. (Comp) | Lordstown, OH | 07/17/09 | 07/16/09
71713 | DCM Manufacturing (Comp) | Haltom City, TX | 07/17/09 | 07/16/09
71714 | Arkansas Lamp Manufacturing (Comp) | Van Buren, AR | 07/17/09 | 07/09/09
71715 | Citigroup (Wkrs) | Gray, TN | 07/17/09 | 07/07/09
71716 | Malibu-Kahlua International, a deivision of Pernod Ricard (Wkrs) | White Plains, NY | 07/17/09 | 07/09/09
71717 | Ryerson (Wkrs) | Burns Harbor, IN | 07/17/09 | 07/06/09
71718 | DSFI (Comp) | Addison, IL | 07/17/09 | 07/16/09
71719 | C & A Apparel Inc. (Wkrs) | San Francisco, CA | 07/17/09 | 07/03/09
71720 | Yanagawa of South Carolina (Wkrs) | Manning, SC | 07/17/09 | 07/06/09
71721 | Hewlett Packard (HP) (State) | Fort Collins, CO | 07/17/09 | 07/16/09
71722 | Arvin Meritor, Inc. (UAW) | Carrollton, KY | 07/17/09 | 07/16/09
71723 | United Airlines, Inc. (IBT) | Chicago, IL | 07/17/09 | 07/09/09
71724 | Contech US, LLC (Comp) | Albemarle, NC | 07/17/09 | 07/01/09
71725 | Caterpillar, Inc. (UAW) | Peoria, IL | 07/17/09 | 07/06/09
71726 | Design Systems, Inc. (Wkrs) | Farmington Hills, MI | 07/17/09 | 07/10/09

[FR Doc. E9-22753 Filed 9-21-09; 8:45 am]

BILLING CODE 4510-FN-P